DEPARTMENT OF COMMERCE

International Trade Administration

[A-570-848]

Freshwater Crawfish Tail Meat From the People's Republic of China: Final Results of Antidumping Duty Administrative Review and New Shipper Review; 2012-2013

AGENCY: Enforcement and Compliance, International Trade Administration, Department of Commerce.

SUMMARY: On October 6, 2014, the Department of Commerce (the Department) published in the Federal Register the preliminary results of the administrative review and new shipper review of the antidumping duty order on freshwater crawfish tail meat from the People's Republic of China (the PRC).¹ The period of review (POR) for the administrative review is September 1, 2012, through August 31, 2013, and the POR for the new shipper review is September 1, 2012 through August 31, 2013. These reviews cover two producers/exporters of subject merchandise: Xiping Opeck Food Co., Ltd. (Xiping Opeck), and Hubei Nature Agriculture Industry Co., Ltd (Hubei Nature). We invited parties to comment on the Preliminary Results. We received no comments from interested parties. Accordingly, for the final results, we continue to find that the companies covered by these reviews did not make sales of subject merchandise at less than normal value.

¹ See Freshwater Crawfish Tail Meat From the People's Republic of China: Preliminary Results of Antidumping Duty Administrative Review and New Shipper Review; 2012-2013, 79 FR 60134 (October 6, 2014) (Preliminary Results). Also, on January 6, 2014, in accordance with 19 CFR 351.214(j)(3), the Department aligned the new shipper review with the administrative review. See Memorandum to the File from Bryan Hansen, Case Analyst, “Alignment of New Shipper Review of Freshwater Crawfish Tail Meat from the People's Republic of China with the concurrent administrative review of Freshwater Crawfish Tail Meat from the People's Republic of China,” dated January 6, 2014.

DATES: Effective Date: December 18, 2014.

FOR FURTHER INFORMATION CONTACT: Bryan Hansen or Hermes Pinilla, AD/CVD Operations, Office I, Enforcement and Compliance, International Trade Administration, U.S. Department of Commerce, 14th Street and Constitution Avenue NW., Washington, DC 20230; telephone: (202) 482-3683 or (202) 482-3477, respectively.

SUPPLEMENTARY INFORMATION:

Background

On October 4, 2014, the Department published the Preliminary Results of these reviews. The Department gave interested parties an opportunity to comment on the Preliminary Results. We received no comments from interested parties.

We conducted these reviews in accordance with sections 751(a)(1)(B) and 751(a)(2)(B) of the Tariff Act of 1930, as amended (the Act).

Scope of the Order

The product covered by the antidumping duty order is freshwater crawfish tail meat, in all its forms (whether washed or with fat on, whether purged or un-purged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.1010 and 1605.40.1090, which are the HTSUS numbers for prepared foodstuffs, indicating peeled crawfish tail meat and other, as introduced by CBP in 2000, and HTSUS numbers 0306.19.0010 and 0306.29.0000, which are reserved for fish and crustaceans in general. On February 10, 2012, the Department added HTSUS classification number 0306.29.0100 to the scope description pursuant to a request by U.S. Customs and Border Protection (CBP). The HTSUS subheadings are provided for convenience and customs purposes only. The written description of the scope of the order is dispositive.

Final Results of the Review

The Department made no changes to its calculations announced in the Preliminary Results. As a result of our administrative review, we determine that a weighted-average dumping margin of 0.00 percent exists for Xiping Opeck for the POR.

For the final results of the new shipper review, the Department determines that a dumping margin of 0.00 percent exists for merchandise produced and exported by Hubei Nature for the POR.

Assessment

In accordance with 19 CFR 351.212 and the Final Modification,² the Department will instruct CBP to liquidate all appropriate entries for Xiping Opeck, and Hubei Nature without regard to antidumping duties because their weighted-average dumping margins in these final results are zero.³

² See 19 CFR 351.212(b)(1).

³ See Antidumping Proceeding: Calculation of the Weighted-Average Dumping Margin and Assessment Rate in Certain Antidumping Duty Proceedings; Final Modification, 77 FR 8101 (February 14, 2012) (Final Modification).

Pursuant to the Department's refinement to its assessment practice in NME cases,⁴ for entries that were not reported in the U.S. sales databases submitted by companies individually examined during these reviews, the Department will instruct CBP to liquidate such entries at the PRC-wide rate.

⁴ See Non-Market Economy Antidumping Proceedings: Assessment of Antidumping Duties, 76 FR 65694 (October 24, 2011).

We intend to issue assessment instructions to CBP 15 days after the date of publication of these final results of reviews.

Cash Deposit Requirements

The following cash deposit requirements will be effective upon publication of the final results of the administrative review for all shipments of the subject merchandise entered, or withdrawn from warehouse, for consumption on or after the publication date as provided by section 751(a)(2)(C) of the Act: (1) For subject merchandise exported by Xiping Opeck, the cash deposit rate will be the rate established in the final results of the administrative review; because the rate is zero or de minimis, no cash deposit will be required for that Xiping Opeck; (2) for previously investigated companies not listed above that have separate rates, the cash deposit rate will continue to be the company-specific rate published for the investigation; (3) for all other PRC exporters of subject merchandise which have not been found to be entitled to a separate rate, the cash deposit rate will be the PRC-wide rate of 223.01 percent; and (4) for all non-PRC exporters of subject merchandise which have not received their own rate, the cash deposit rate will be the rate applicable to the PRC entity that supplied that non-PRC exporter.

With respect to Hubei Nature, the respondent in the new shipper review, the Department established a combination cash deposit rate for this company consistent with its practice as follows: (1) For subject merchandise produced and exported by Hubei Nature, the cash deposit rate will be the rate established for Hubei Nature in the final results of the new shipper review; (2) for subject merchandise exported by Hubei Nature, but not produced by Hubei Nature, the cash deposit rate will be the rate for the PRC-wide entity; and (3) for subject merchandise produced by Hubei Nature but not exported by Hubei Nature, the cash deposit rate will be the rate applicable to the exporter. These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

These final results of reviews are issued and published in accordance with sections 751(a)(1), 751(a)(2)(B)(iv), 751(a)(3), 777(i) of the Act and 19 CFR 351.213(h), 351.214 and 351.221(b)(4).

Dated: December 12, 2014.
Paul Piquado,
Assistant Secretary for Enforcement and Compliance.

[FR Doc. 2014-29660 Filed 12-17-14; 8:45 am]

BILLING CODE 3510-DS-P